DEPARTMENT OF STATE

[Public Notice 4023]

Determination and Certification Under Section 40A of the Arms Export Control Act

Pursuant to section 40A of the Arms Export Control Act (Public Law 90-629), as added by section 330 of the Antiterrorism and Effective Death Penalty Act of 1996 (Public Law 104-132) (22 U.S.C. 2771 et seq.), and Executive Order 11958, as amended, I hereby determine and certify to the Congress that the following countries are not cooperating fully with United States antiterrorism efforts:

Cuba

Iran

Iraq

Libya

North Korea

Sudan

Syria

This determination and certification shall be transmitted to the Congress and published in the Federal Register.

Dated: May 15, 2002.
Richard L. Armitage,
Deputy Secretary of State, Department of State.

[FR Doc. 02-12826 Filed 5-21-02; 8:45 am]

BILLING CODE 4710-10-P